FEDERAL COMMUNICATIONS COMMISSION

47 CFR Part 73

[DA 01-1389; MM Docket No. 00-12; RM-9706]

Radio Broadcasting Services; West Rutland, VT

AGENCY: Federal Communications Commission.

ACTION: Final rule.

SUMMARY: At the request of Great Casco Bay Wireless Talking Machine Limited Liability Company, this document substitutes Channel 298A for Channel 298C3 at West Rutland, Vermont, in order to permit Station WTHT, Lewiston, Maine, to improve its facilities. See 65 FR 7518, published February 16, 2000. The reference coordinates for Channel 298A at West Rutland, Vermont, are 43-34-04 and 73-00-30.

DATES: Effective July 23, 2001.

FOR FURTHER INFORMATION CONTACT: Robert Hayne, Mass Media Bureau, (202) 418-2177.

SUPPLEMENTARY INFORMATION: This is a synopsis of the Commission's Report and Order in MM Docket No. 00-12, adopted June 6, 2001, and released June 8, 2001. The full text of this decision is available for inspection and copying during normal business hours in the FCC's Reference Information Center at Portals II, CY-A257, 445 12th Street, SW, Washington, D.C. The complete text of this decision may also be purchased from the Commission's copy contractor, International Transcription Service, Inc., (202) 857-3800, 1231 20th Street, NW, Washington, DC 20036.

List of Subjects in 47 CFR Part 73

Radio Broadcasting.

Part 73 of Title 47 of the Code of Federal Regulations is amended as follows:

PART 73—RADIO BROADCAST SERVICES

1. The authority citation for Part 73 continues to read as follows:

Authority: 47 U.S.C. 154, 303, 334, and 336.

§ 73.202 [Amended]

2. Section 73.202(b), the Table of FM Allotments under Vermont, is amended by removing Channel 298C3 at West Rutland and adding Channel 298A at West Rutland.

Federal Communications Commission.
John A. Karousos,
Chief, Allocations Branch, Policy and Rules Division, Mass Media Bureau.

[FR Doc. 01-15973 Filed 6-25-01; 8:45 am]

BILLING CODE 6712-01-P